DEPARTMENT OF TRANSPORTATION

Federal Highway Administration

[Docket No. FHWA-2013-0038]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by August 20, 2013.

ADDRESSES: You may submit comments identified by DOT Docket ID 2013-0038 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Joseph Cheung, 202-366-6994 or Brian Fouch, 202-366-0744, Office of Safety Design Team, Federal Highway Administration, Department of Transportation, 1200 New Jersey Avenue SE., Washington, DC 20590. Office hours are from 7 a.m. to 4:30 p.m., Monday through Friday, except Federal holidays.

SUPPLEMENTARY INFORMATION:

Title: Roadway Departure Safety Profile.

Background: Roadway departure fatalities account for 53 percent of all highway deaths in the United States. Identifying roadway departure crash types and locations is an important part of the FHWA Office of Safety's development of an internal Roadway Departure Strategic Plan. To assist in this effort, FHWA seeks to focus on the following primary emphasis areas based on crash type: overturning, opposite direction, and fixed-object crashes (particularly trees and utility poles). Recognizing that States face similar issues in preventing such crashes, the FHWA proposes to collect information from each State to identify and document methods and knowledge gained about addressing fixed object crashes. This includes gathering details and descriptions of State policies including design guidance, clear zone policies; case studies, innovative best practices, and notable strategies/projects to address fixed object crashes; studies or data that document the effectiveness of implemented countermeasures, policies, or design guidance in reducing the number and/or severity of vehicle crashes into roadside trees and utility poles and other fixed objects; and lessons learned. In addition to State policies, FHWA is interested in documenting any “special projects” that States have used to enhance roadside safety, such as the Colleton County I-95 Timber Harvest Project. The purpose of the project was to identify areas along interstate highways that would enhance forest health, improve and enhance aesthetics, and improve highway safety. The result of the project culminated in identifying 15 potential forestation thinning sites. By thinning these forested areas, the South Carolina DOT hopes to reduce the incidence of fixed-object crashes involving trees adjacent to the roadway. Such efforts are outside of State's typical design practices but can have a positive effect on roadside safety. Additionally, FHWA would encourage States, as part of the information gathering, to share information about local efforts by cities and counties. Using the information gathered, FHWA will develop a Synthesis of State practices. A part of the survey will involve a set of questions to determine the current “State of the State” regarding Roadway Departure safety. From the information gathered, FHWA will develop a Roadway Departure Safety Profile Report for each State to support future technical assistance to the State DOTs, FHWA Division office, and local agencies.

The survey will be disseminated electronically, enabling respondents to answer questions via a link established specifically for the purposes of this survey.

Respondents: Approximately 52 representatives from State DOTs, Washington, DC, and Puerto Rico.

Frequency: One time survey.

Estimated Average Burden per Response: Approximately 16 hours per response.

Estimated Total Annual Burden Hours: Approximately 832 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: June 17, 2013.
Michael Howell,
Information Collection Officer.

[FR Doc. 2013-14869 Filed 6-20-13; 8:45 am]

BILLING CODE 4910-22-P